TENNESSEE VALLEY AUTHORITY

Establishment of Regional Energy Resource Council and Solicitation of Nominations for Membership

AGENCY: Tennessee Valley Authority (TVA).

ACTION: Notice of Establishment of the Regional Energy Resource Council and Solicitation of Nominations for Membership.

SUMMARY: Pursuant to the Tennessee Valley Authority Act of 1933, as amended, and the Federal Advisory Committee Act (5 U.S.C. Appendix 2), TVA announces the establishment of the Regional Energy Resource Council. The Council will advise TVA on its energy resource activities and the priorities among competing objectives and values. Consistent with the Federal Advisory Committee Act, the duration of this Council is for two years, unless renewed by TVA. This notice also requests nominations for membership on the Council.

DATES: Please submit all nominations for membership on or before July 15, 2013.

ADDRESSES: All nominations should be submitted to Joe Hoagland, TVA Designated Federal Officer, 400 West Summit Hill Drive, Knoxville, TN 37902. Nominations may also be emailed to RERC@tva.gov.

FOR FURTHER INFORMATION CONTACT: Beth Keel, 400 West Summit Hill Drive, WT-11 B, Knoxville, Tennessee 37902, (865) 632-6113, bakeel@tva.gov.

SUPPLEMENTARY INFORMATION:

I. Background and Authority

The Regional Energy Resource Council is governed by the Federal Advisory Committee Act (5 U.S.C. Appendix 2), which sets forth standards for the formation and use of advisory committees. The Council will advise TVA on its energy resource activities and the priorities among competing objectives and values. TVA's energy resource activities include constructing and operating various supply-side resources, including fossil-fueled power plants, nuclear plants, hydroelectric dams, and renewable resources; the development and management of demand-side resources, including energy efficiency; the design, construction, and operation of power delivery systems; and the integration of all of these energy resources into plans for meeting future demands for electricity in the TVA region.

II. Structure

The Council will consist of up to 20 members. Members of the Council will be chosen to ensure objectivity and balance in representation of a broad range of diverse views and interests, including environmental, industrial, business, consumer, educational, and community leadership interests. All members of the Council shall be persons possessing demonstrated professional or personal qualifications relevant to TVA's energy resource activities.

The Governors of Alabama, Georgia, Kentucky, Mississippi, North Carolina, Tennessee, and Virginia will each be asked to nominate a member to the Council, taking into account the need for a balanced and diverse membership. The Tennessee Valley Public Power Association and the Tennessee Valley Industrial Committee will each be asked to nominate members to represent the interests of distributors of TVA power and direct-served customers of TVA, respectively. The Council will also include at least two members representing each of the following interests: Non-governmental entity focused on environmental and/or energy issues, chamber of commerce or economic and community development, and academic or research center. TVA will appoint up to three additional members to ensure a balanced representation of a broad range of views. Members shall be considered representatives of the group, organization, or other entity identified by TVA in making the membership appointment.

In order to capture a broad range of fresh perspectives and advice in subsequent terms of the Council, TVA shall appoint not more than 14 of the Council members from the stakeholders who served on the Council during its previous term. This restriction shall not limit the ability of the Governors to re-nominate their appointees who served on the previous term of the Council.

Meetings of the Council will be held approximately twice per year. As necessary, subcommittees composed of members of the parent Council may be established to perform specific functions within the Council's jurisdiction. Subcommittees of the Council may meet more frequently than the parent Council. The Designated Federal Officer or Alternate Designated Federal Officer shall call all meetings of the Council and of any subcommittees, approve the agenda for each meeting, and be present at all meetings. The first meeting of the Regional Energy Resource Council is anticipated to take place in September, 2013.

Each member shall be appointed for a term of two years. Whenever a vacancy occurs, TVA may appoint a replacement for the remainder of the applicable term. TVA shall designate one Council member as the Council Chair.

III. Compensation

Each member of the Council shall serve without compensation. Members engaged in the performance of their Council duties away from their homes or regular places of business may be allowed reimbursement for travel expenses, including per diem in lieu of subsistence, as authorized by 5 U.S.C. 5703.

IV. Nominations

TVA is seeking nominations for membership on the Council to represent the following interests: (1) Non-governmental entity focused on environmental and/or energy issues, (2) chamber of commerce or economic and community development, and (3) academic or research center. TVA also is seeking nominations for membership on the Council to fill the three at-large membership positions designed to ensure balanced representation of views.

TVA will consider nominations of all qualified individuals to ensure that the Council includes members with professional or personal experience relevant to TVA's energy resource activities. Individuals may nominate themselves or other individuals, and associations and organizations may nominate one or more qualified persons for membership on the Council. Nominations shall state that the nominee is willing to serve as member of the Council. Potential candidates may be asked to provide detailed information concerning financial interests, consultancies, research grants, and/or contracts that might be affected by recommendations of the Council to permit evaluation of possible sources of conflicts of interest.

A nomination package should include the following information for each nominee: (1) A letter of nomination stating the name, affiliation, and contact information for the nominee, the basis for the nomination (i.e., what specific attributes recommend him/her for service in this capacity), and the nominee's field(s) of expertise; (2) a biographical sketch of the nominee and copy of his/her curriculum vitae; and (3) the name, return address, email address, and daytime telephone number of the nominator. TVA encourages nominations of appropriately qualified female, minority, or disabled candidates. TVA also seeks geographic diversity in the composition of the Council. All nomination information should be provided in a single, complete package by July 15, 2013. All nominations for membership should be sent to Joe Hoagland, TVA Designated Federal Officer, at the address provided above.

Dated: June 18, 2013.
Joseph J. Hoagland,
Senior Vice President, Policy & Oversight, Tennessee Valley Authority.

[FR Doc. 2013-15052 Filed 6-21-13; 8:45 am]

BILLING CODE 8120-08-P